DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Commercial Fishing Vessel Cost and Earnings Data Collection Survey in the Northeast Region.

OMB Control Number: None.

Form Number(s): NA.

Type of Request: Regular submission (new information collection).

Number of Respondents: 1,280.

Average Hours per Response: 1.

Burden Hours: 1,280.

Needs and Uses: This request is for a new information collection.

Economic data on the costs of operating commercial fishing businesses are needed by the National Marine Fisheries Service (NMFS) to meet the legislative requirements of the Magnuson-Stevens Fishery Conservation and Management Act, the National Environmental Policy Act, Executive Order 12866 and the Regulatory Flexibility Act. The Social Sciences Branch (SSB) of the NMFS, Northeast Fisheries Science Center (NEFSC) is responsible for estimating the economic and social impacts of fishery management actions.

Lack of information on vessel operating costs has severely limited the ability of the SSB to assess fishermen's behavioral responses to changes in regulations, fishing conditions, and market conditions. Establishing an on-going, consistent, data collection program will enable the SSB to provide a level of analysis that meets the needs of the New England Fishery Management Council, the Mid-Atlantic Fishery Management Council and NMFS, on behalf of the Secretary of Commerce, to make informed decisions about the expected economic effects of proposed management alternatives.

Affected Public: Business or other for-profit organizations.

Frequency: Annually.

Respondent's Obligation: Voluntary.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: September 19, 2011.
Gwellnar Banks,
Management Analyst, Office of the Chief Information Officer.

[FR Doc. 2011-24435 Filed 9-22-11; 8:45 am]

BILLING CODE 3510-22-P